DEPARTMENT OF COMMERCE

Bureau of Industry and Security

[Docket No. 030509121-3121-01]

Addition of Persons to Unverified List—Guidance as to “Red Flags” Under Supplement No. 3 to 15 CFR Part 732

Correction

In notice document 03-12266 beginning on page 26569 in the issue of Friday, May 16, 2003, make the following corrections:

1. On page 26570, in the second column, after the first full paragraph, in the fifth line, “Peluag” should read “Peluang”.

2. On the same page, in the same column, in the last paragraph, in the third line, “Pelaug” should read “Peluang”.

[FR Doc. C3-12266 Filed 5-22-03; 8:45 am]

BILLING CODE 1505-01-D